DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains and associated funerary objects in the possession of the Thomas Burke Memorial Washington State Museum (Burke Museum), University of Washington, Seattle, WA. The human remains and associated funerary objects were removed from Lopez Island, San Juan County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Burke Museum professional staff in consultation with representatives of the Lummi Tribe of the Lummi Reservation, Washington; Samish Indian Tribe, Washington; and Swinomish Indians of the Swinomish Reservation, Washington.

In 1968, human remains representing a minimum of 25 individuals were removed from Watmough Bay (45-SJ-280), in the southern part of Lopez Island, San Juan County, WA, by a University of Washington Field School led by David Munsell. The collection was transferred from the University of Washington Anthropology Department to the Burke Museum in the 1970s. The collection was formally accessioned by the museum in 1996 (Accn. #1996-121). No known individuals were identified. The 74 associated funerary objects are 2 stone flakes; 5 unmodified stones; 1 bone bipoint; 1 bone tool; 1 bone tube; 5 charcoal samples; 1 core; 1 dog cranium; 1 hammerstone; 2 harpoon points; 5 modified bones; 2 mudstone concretions (one unmodified and one modified); 4 net weights; 1 point; 1 sediment sample (in three bags); 1 modified shell; 2 unmodified shells; 1 lot unmodified dentalium shells; 2 lots of bone and shell; 6 lots of non-human bone; 1 lot non-human bone, stone, and shell; 1 lot plant material mixed with human bone; 1 lot stone; and 26 level bags containing stone, charcoal, shell, mammal, fish, and bird bones.

The Watmough Bay archeological site is a shell midden site containing cultural objects consistent with prehistoric Native American technologies. Radiocarbon dates (2- sigma calibrated) for this site indicate discontinuous dates of 1060 to 2785 years ago, and with one later date of 285 to 50 years ago. The majority of dates for the site fall in the range of 1250 to 1650 years ago. Burial context in a shell midden in non-articulated burials is consistent with prehistoric Coast Salish burial practices, and indicates that the human remains described above are Native American.

In 1944, human remains representing a minimum of one individual were removed from Lopez Island, San Juan County, WA, by Mr. and Mrs. Ira Wood. In 1944, the human remains were donated to the Burke Museum by Joy Kirkpatrick (Burke Accn. #3349). No known individual was identified. No associated funerary objects are present.

In 1968, human remains representing a minimum of one individual were removed from Mud Bay, Lopez Island, San Juan County, WA. The human remains were removed by a University of Washington field party led by David Munsell. The collection was transferred from the University of Washington Anthropology Department to the Burke Museum in the 1970s, and was formerly accessioned in 1996 (Burke Accn. #1996-121). In 1998, the human remains were found in level bags at the museum. No known individual was identified. No associated funerary objects are present.

In 1968, human remains representing a minimum of one individual were removed from Mackaye Harbor, Lopez Island, San Juan County, WA. The human remains were removed by a University of Washington field party led by David Munsell. The collection was transferred from the University of Washington Anthropology Department to the Burke Museum in the 1970s, and was formerly accessioned in 1996 (Burke Accn. #1996-121). In 2000, the human remains were found in level bags at the museum. No known individual was identified. The one associated funerary object is one bag of mammal and fish bones.

In 1945, human remains representing a minimum of one individual were removed from the Richardson site (45-SJ-185), Lopez Island, San Juan County, WA. The human remains were excavated by Mr. Carroll Burroughs, and transferred to the Burke Museum in 1951 (Burke Accn. #3649). In 2000, the human remains were found in the collection. No known individual was identified. The five associated funerary objects are four mammal bones and one projectile point.

Historical documentation indicates that the southern Lopez Island area is part of the Samish aboriginal territory [Suttles (1951 and 1990), Smith (1941), Roberts (1975), and Tremaine (1975)]. The Treaty of Point Elliot in 1855 stated that the Samish were to be relocated to the Lummi Reservation. After the Treaty of Point Elliot in 1855, many Samish individuals relocated to either the Lummi Reservation or the Swinomish Reservation (Ruby and Brown 1986:179). Many Samish, however, chose to remain in their old village sites. In 1996, the Samish Indian Tribe was re-recognized by the Federal government.

Officials of the Burke Museum have determined that, pursuant to 25 U.S.C. 3001 (9-10), the human remains described above represent the physical remains of at least 29 individuals of Native American ancestry. Officials of the Burke Museum also have determined that, pursuant to 25 U.S.C. 3001 (3)(A), the 80 objects listed above are reasonably believed to have been placed with or near individual human remains at the time of death or later as part of the death rite or ceremony. Lastly, officials of the Burke Museum have determined that, pursuant to 25 U.S.C. 3001 (2), there is a relationship of shared group identity that can be reasonably traced between the Native American human remains and associated funerary objects and the Lummi Tribe of the Lummi Reservation, Washington; Samish Indian Tribe, Washington; and Swinomish Indians of the Swinomish Reservation, Washington.

Representatives of any other Indian tribe that believes itself to be culturally affiliated with the human remains and associated funerary objects should contact Dr. Peter Lape, Burke Museum, University of Washington, Box 353010, Seattle, WA 98195, telephone (206) 685-9364, before March 3, 2010. Repatriation of the human remains and associated funerary objects to the Lummi Tribe of the Lummi Reservation Washington; Samish Indian Tribe, Washington; and Swinomish Indians of the Swinomish Reservation, Washington may proceed after that date if no additional claimants come forward.

The Burke Museum is responsible for notifying the Lummi Tribe of the Lummi Reservation, Washington; Samish Indian Tribe, Washington; and Swinomish Indians of the Swinomish Reservation, Washington that this notice has been published.

Dated: December 23, 2009
Sherry Hutt,
Manager, National NAGPRA Program.

[FR Doc. 2010-2025 Filed 1-29-10; 8:45 am]

BILLING CODE 4312-50-S